DEPARTMENT OF STATE

[Public Notice 4020]

Bureau of Nonproliferation; Imposition of Nonproliferation Measures Against Armenian, Chinese, and Moldovan Entities, Including Ban on U.S. Government Procurement

AGENCY: Department of State.

ACTION: Notice.

SUMMARY: A determination has been made that two Armenian entities, eight Chinese entities, and two Moldovan entities have engaged in activities that require the imposition of measures pursuant to Section 3 of the Iran Nonproliferation Act of 2000, which provides for penalties on entities for the transfer to Iran of equipment and technology controlled under multilateral export control lists.

EFFECTIVE DATE: May 9, 2002.

FOR FURTHER INFORMATION CONTACT: On general issues: Pamela K. Roe, Office of Chemical, Biological and Missile Nonproliferation, Bureau of Nonproliferation, Department of State, (202-647-1142). On U.S. Government procurement ban issues: Gladys Gines, Office of the Procurement Executive, Department of State, (703-516-1691).

SUPPLEMENTARY INFORMATION: Pursuant to sections 2 and 3 of the Iran Nonproliferation Act of 2000 (Pub. L. 106-178), the U.S. Government determined on May 6, 2002, that the measures authorized in section 3 of the Act shall apply to the following foreign entities identified in the report submitted pursuant to section 2(a) of the Act:

Lizen Open Joint Stock Company (Armenia) and any successor, sub-unit, or subsidiary thereof;

Armen Sargsian (Armenia);

Liyang Yunlong, aka Liyang Chemical Equipment Company (China), and any successor, sub-unit, or subsidiary thereof;

Zibo Chemical Equipment Plant, aka Chemet Global Ltd. (China), and any successor, sub-unit, or subsidiary thereof;

China National Machinery and Electric Equipment Import and Export Company (China) and any successor, sub-unit, or subsidiary thereof;

Wha Cheong Tai Company (China) and any successor, sub-unit, or subsidiary thereof;

China Shipbuilding Trading Company (China) and any successor, sub-unit, or subsidiary thereof;

The China Precision Machinery Import/Export Corporation (China) and any successor, sub-unit, or subsidiary thereof;

The China National Aero-Technology Import And Export Corporation (China) and any successor, sub-unit, or subsidiary thereof;

Q.C. Chen (China);

Cuanta, SA (Moldova) and any successor, sub-unit, or subsidiary thereof;

Mikhail Pavlovich Vladov (Moldova).

Accordingly, pursuant to the provisions of the Act, the following measures are imposed on these entities:

1. No department or agency of the United States Government may procure, or enter into any contract for the procurement of, any goods, technology, or services from these foreign persons;

2. No department or agency of the United States Government may provide any assistance to the foreign persons, and these persons shall not be eligible to participate in any assistance program of the United States Government;

3. No United States Government sales to the foreign persons of any item on the United States Munitions List (as in effect on August 8, 1995) are permitted, and all sales to these persons of any defense articles, defense services, or design and construction services under the Arms Export Control Act are terminated; and,

4. No new individual licenses shall be granted for the transfer to these foreign persons of items the export of which is controlled under the Export Administration Act of 1979 or the Export Administration Regulations, and any existing such licenses are suspended.

These measures shall be implemented by the responsible departments and agencies of the United States Government and will remain in place for two years, except to the extent that the Secretary of State or Deputy Secretary of State may subsequently determine otherwise. A new determination will be made in the event that circumstances change in such a manner as to warrant a change in the duration of sanctions.

Dated: May 9, 2002.
John S. Wolf,
Assistant Secretary of State for Nonproliferation, Department of State.

[FR Doc. 02-12304 Filed 5-15-02; 8:45 am]

BILLING CODE 4710-25-P